DEPARTMENT OF HEALTH AND HUMAN SERVICES

Agency for Healthcare Research and Quality

Notice of Meetings

AGENCY: Agency for Healthcare Research and Quality (AHRQ), HHS.

ACTION: Notice of Five AHRQ Subcommittee Meetings.

SUMMARY: The subcommittees listed below are part of AHRQ's Health Services Research Initial Review Group Committee. Grant applications are to be reviewed and discussed at these meetings. Each subcommittee meeting will commence in open session before closing to the public for the duration of the meeting. These meetings will be closed to the public in accordance with 5 U.S.C. App. 2 section 10(d), 5 U.S.C. 552b(c)(4), and 5 U.S.C. 552b(c)(6).

DATES: See below for dates of meetings:

1. Healthcare Effectiveness and Outcomes Research (HEOR)

Date: October 7, 2015 (Open from 8:30 a.m. to 9:00 a.m. on October 7th and closed for remainder of the meeting)

2. Health System and Value Research (HSVR)

Date: October 7, 2015 (Open from 8:30 a.m. to 9:00 a.m. on October 7th and closed for remainder of the meeting)

3. Healthcare Safety and Quality Improvement Research (HSQR)

Date: October 14-15, 2015 (Open from 8:00 a.m. to 8:30 a.m. on October 14th and closed for remainder of the meeting)

4. Health Care Research and Training (HCRT)

Date: October 15-16, 2015 (Open from 8:00 a.m. to 8:30 a.m. on October 15th and closed for remainder of the meeting)

5. Healthcare Information Technology Research (HITR)

Date: October 22-23, 2015 (Open from 8:30 a.m. to 9:00 a.m. on October 22nd and closed for remainder of the meeting)

ADDRESSES: Gaithersburg Marriott Washingtonian Center, 9751 Washingtonian Blvd., Gaithersburg, MD 20878.

FOR FURTHER INFORMATION CONTACT: (To obtain a roster of members, agenda or minutes of the non-confidential portions of the meetings.)

Mrs. Bonnie Campbell, Committee Management Officer, Office of Extramural Research Education and Priority Populations, AHRQ, 540 Gaither Road, Suite 2000, Rockville, Maryland 20850, Telephone (301) 427-1554.

SUPPLEMENTARY INFORMATION: In accordance with section 10 (a)(2) of the Federal Advisory Committee Act (5 U.S.C. App. 2), AHRQ announces meetings of the scientific peer review groups listed above, which are subcommittees of AHRQ's Health Services Research Initial Review Group Committees. Each subcommittee meeting will commence in open session before closing to the public for the duration of the meeting. The subcommittee meetings will be closed to the public in accordance with the provisions set forth in 5 U.S.C. App. 2 section 10(d), 5 U.S.C. 552b(c)(4), and 5 U.S.C. 552b(c)(6). The grant applications and the discussions could disclose confidential trade secrets or commercial property such as patentable material, and personal information concerning individuals associated with the grant applications, the disclosure of which would constitute a clearly unwarranted invasion of personal privacy.

Agenda items for these meetings are subject to change as priorities dictate.

Sharon B. Arnold,
Deputy Director.

[FR Doc. 2015-23575 Filed 9-18-15; 8:45 am]

BILLING CODE 4160-90-P